DEPARTMENT OF AGRICULTURE

Office of the Secretary

Notice of Solicitation of Members to the National Agricultural Research, Extension, Education, and Economics Advisory Board

AGENCY: Research, Education, and Economics, USDA.

ACTION: Solicitation for membership.

SUMMARY: In accordance with the Federal Advisory Committee Act, 5 U.S.C. App., the United States Department of Agriculture announces solicitation for nominations to fill 9 vacancies on the National Agricultural Research, Extension, Education, and Economics Advisory Board.

DATES: Deadline for Advisory Board member nominations is July 31, 2015.

ADDRESSES: The nominee's name, resume, completed Form AD-755, and any letters of support must be submitted via one of the following methods:

(1) Email to nareee@ars.usda.gov; or

(2) By mail delivery service to Thomas Vilsack, Secretary, U.S. Department of Agriculture, 1400 Independence Avenue SW., Washington, DC 20250, Attn: NAREEE Advisory Board, Room 332A, Whitten Building.

FOR FURTHER INFORMATION CONTACT: Michele Esch, Executive Director, National Agricultural Research, Extension, Education, and Economics Advisory Board, 1400 Independence Avenue SW., Room 332A, Whitten Building, Washington, DC 20250-2255, telephone: 202-720-3684; fax: 202-720-6199; email: michele.esch@ars.usda.gov. Committee Web site: www.nareeeab.ree.usda.gov.

SUPPLEMENTARY INFORMATION: The National Agricultural Research, Extension, Education, and Economics Advisory Board was established in 1996 via Section 1408 of the National Agricultural Research, Extension, and Teaching Policy Act of 1977 (7 U.S.C. 3123) to provide advice to the Secretary of Agriculture and land-grant colleges and universities on top priorities and policies for food and agricultural research, education, extension and economics. Section 1408 of the National Agricultural Research, Extension, and Teaching Policy Act of 1977 (7 U.S.C. 3123) was amended by the Farm Security and Rural Investment Act of 2008 by deleting six membership categories in the National Agricultural Research, Extension, Education, and Economics Advisory Board, which totals 25 members. Since the Advisory Boards inception by congressional legislation in 1996, each member has represented a specific category related to farming or ranching, food production and processing, forestry research, crop and animal science, land-grant institutions, non-land grant college or university with a historic commitment to research in the food and agricultural sciences, food retailing and marketing, rural economic development, and natural resource and consumer interest groups, among many others. The Board was first appointed by the Secretary of Agriculture in September 1996 and one-third of its members were appointed for a one, two, and three-year term, respectively. The terms for 9 members who represent specific categories will expire September 30, 2015. Nominations for a 3-year appointment for these 9 vacant categories are sought. All nominees will be carefully reviewed for their expertise, leadership, and relevance to a category.

The 9 slots to be filled are:

Category A. National Farm Organization

Category C. Food Animal Commodity Producer

Category I. National Human Health Association

Category N. Non-Land Grant College or University w/historic commitment to research in food and agricultural sciences

Category O. Hispanic-serving Institutions

Category Q. Transportation of Food and Agricultural Products to domestic and foreign markets

Category R. Food Retailing and Marketing Interests

Category S. Food and Fiber Processors

Category X. Private Sector Organization involved in International Development

Nominations are solicited from organizations, associations, societies, councils, federations, groups, and companies that represent a wide variety of food and agricultural interests throughout the country. Nominations for one individual who fits several of the categories listed above, or for more than one person who fits one category, will be accepted. In your nomination letter, please indicate the specific membership category for each nominee. Each nominee must submit form AD-755, “Advisory Committee Membership Background Information” (which can be obtained from the contact person below or from: http://www.ocio.usda.gov/sites/default/files/docs/2012/AD-755_Master_2012_508%20Ver.pdf). All nominees will be vetted before selection.

Nominations are open to all individuals without regard to race, color, religion, sex, national origin, age, mental or physical handicap, marital status, or sexual orientation. To ensure the recommendation of the Advisory Board take into account the needs of the diverse groups served by the USDA, membership shall include, to the extent practicable, individuals with demonstrated ability to represent the needs of all racial and ethnic groups, women and men, and persons with disabilities.

Please note that registered lobbyist and individuals already serving another USDA Federal Advisory Committee, are ineligible for nomination.

Appointments to the National Agricultural Research, Extension, Education, and Economics Advisory Board will be made by the Secretary of Agriculture.

Done at Washington, DC, this 10th day of June 2015.
Catherine Woteki,
Under Secretary, Research, Education, and Economics, Chief Scientist, USDA.

[FR Doc. 2015-15206 Filed 6-19-15; 8:45 am]

BILLING CODE 3410-03-P